DEPARTMENT OF HOMELAND SECURITY

Federal Emergency Management Agency

[Docket ID FEMA-2025-0002; Internal Agency Docket No. FEMA-B-2574]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Assistant Administrator for the Federal Insurance Directorate, Resilience, reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Elizabeth Asche,
Assistant Administrator, Federal Insurance Directorate, Resilience Federal Emergency Management Agency, Department of Homeland Security.

State and county | Location and case No. | Chief executive officer of community | Community map repository | Online location of letter of map revision | Date of modification | Community No.
Connecticut: New Haven | City of New Haven (25-01-0635P). | The Honorable Justin M. Elicker, Mayor, City of New Haven, 165 Church Street, New Haven, CT 06510. | Planning Department, 165 Church Street, 5th Floor, New Haven, CT 06510. | https://msc.fema.gov/portal/advanceSearch. | Jan. 26, 2026 | 090084
Delaware:
New Castle | City of Wilmington (25-03-0133P). | The Honorable John Carney, Mayor, City of Wilmington, 800 North French Street, 9th Floor, Wilmington, DE 19801. | Louis L. Redding City/County Building, 800 North French Street, Wilmington, DE 19801. | https://msc.fema.gov/portal/advanceSearch. | Jan. 22, 2026 | 010028
New Castle | Unincorporated areas of New Castle County (25-03-0133P). | The Honorable Marcus Henry, New Castle County Executive, 87 Reads Way, New Castle, DE 19720. | New Castle County Government Center, 87 Reads Way, New Castle, DE 19720. | https://msc.fema.gov/portal/advanceSearch. | Jan. 22, 2026 | 105085
Florida:
Glades | City of Clewiston (25-04-3856P). | The Honorable James Pittman, Mayor, City of Clewiston, 115 West Ventura Avenue, Clewiston, FL 33440. | City Hall, 115 West Ventura Avenue, Clewiston, FL 33440. | https://msc.fema.gov/portal/advanceSearch. | Feb. 5, 2026 | 120108
Glades | Unincorporated areas of Glades County (25-04-3856P). | Paul Carlisle, Glades County Manager, P.O. Box 1527, Moore Haven, FL 33471. | Glades County Courthouse, 500 Avenue J Southwest, Moore Haven, FL 33471. | https://msc.fema.gov/portal/advanceSearch. | Feb. 5, 2026 | 120095
Miami-Dade | City of Miami (25-04-3003P). | The Honorable Francis X. Suarez, Mayor, City of Miami, 3500 Pan American Drive, Miami, FL 33133. | Building Department, 444 Southwest 2nd Avenue, 4th Floor, Miami, FL 33130. | https://msc.fema.gov/portal/advanceSearch. | Jan. 26, 2026 | 120650
Nassau | Unincorporated areas of Nassau County (25-04-3650P). | Taco E. Pop, Nassau County Manager, 96135 Nassau Place, Suite 1, Yulee, FL 32097. | Nassau County Administration Building, 96131 Nassau Place, Yulee, FL 32097. | https://msc.fema.gov/portal/advanceSearch. | Jan. 22, 2026 | 120170
Orange | City of Orlando (25-04-2427P). | The Honorable Buddy Dyer, Mayor, City of Orlando, 400 South Orange Avenue, Orlando, FL 32801. | Public Works Department, Engineering Division, 400 South Orange Avenue, 8th Floor, Orlando, FL 32801. | https://msc.fema.gov/portal/advanceSearch. | Feb. 10, 2026 | 120186
Orange | Unincorporated areas of Orange County (25-04-2427P). | The Honorable Jerry L. Demings, Mayor, Orange County, 201 South Rosalind Avenue, 5th Floor, Orlando, FL 32801. | Orange County Public Works Department, Stormwater Management Division, 4200 South John Young Parkway, Orlando, FL 32839. | https://msc.fema.gov/portal/advanceSearch. | Feb. 10, 2026 | 120179
Palm Beach | City of West Palm Beach (25-04-3524P). | The Honorable Keith A. James, Mayor, City of West Palm Beach, 401 Clematis Street, West Palm Beach, FL 33401. | Development Services, Building Division, 401 Clematis Street, 1st floor, West Palm Beach, FL 33401. | https://msc.fema.gov/portal/advanceSearch. | Jan. 23, 2026 | 120229
Palm Beach | City of West Palm Beach (25-04-4113P). | The Honorable Keith A. James, Mayor, City of West Palm Beach, 401 Clematis Street, West Palm Beach, FL 33401. | Development Services, Building Division, 401 Clematis Street, 1st floor, West Palm Beach, FL 33401. | https://msc.fema.gov/portal/advanceSearch. | Jan. 27, 2026 | 120229
Palm Beach | Village of Royal Palm Beach (25-04-3219P). | The Honorable Jeff Hmara, Mayor, Village of Royal Palm Beach, 1050 Royal Palm Beach Boulevard, Royal Palm Beach, FL 33411. | Village Hall, 1050 Royal Palm Beach Boulevard, Royal Palm Beach, FL 33411. | https://msc.fema.gov/portal/advanceSearch. | Jan. 28, 2026 | 120225
Sarasota | City of North Port (25-04-3559P). | Jerome Fletcher, City Manager, City of North Port, 4970 City Hall Boulevard, North Port, FL 34286. | City Hall, 4970 City Hall Boulevard, North Port, FL 34286. | https://msc.fema.gov/portal/advanceSearch. | Feb. 4, 2026 | 120279
Sarasota | Unincorporated areas of Sarasota County (25-04-3559P). | Jonathan R. Lewis, Sarasota County Administrator, 1660 Ringling Boulevard, Sarasota, FL 34236. | Sarasota County Government Center, 1001 Sarasota Center Boulevard, Sarasota, FL 34240. | https://msc.fema.gov/portal/advanceSearch. | Feb. 4, 2026 | 125144
Maine: Aroostook | Town of Houlton (25-01-0268P). | Cameron Clark, Interim Town Manager, Town of Houlton, 21 Water Street, Houlton, ME 04730. | Town Hall, 21 Water Street, Houlton, ME 04730. | https://msc.fema.gov/portal/advanceSearch. | Jan. 29, 2026 | 230021
Massachusetts: Barnstable | Town of Falmouth (25-01-0584P). | Mike Renshaw, Town of Falmouth Manager, 59 Town Hall Square, Falmouth, MA 02540. | Department of Public Works, 416 Gifford Street, Falmouth, MA 02540. | https://msc.fema.gov/portal/advanceSearch. | Jan. 20, 2026 | 255211
Michigan:
Clare | City of Clare (24-05-2731P). | The Honorable Patrick Humphrey, Mayor, City of Clare, 202 West 5th Street, Clare, MI 48617. | City Hall, 202 West 5th Street, Clare, MI 48617. | https://msc.fema.gov/portal/advanceSearch. | Jan. 23, 2026 | 260629
Clare | Township of Grant (24-05-2731P). | The Honorable John Lake, Supervisor, Township of Grant, 3022 East Surrey Road, Clare, MI 48617. | Township Hall, P.O. Box 208, Clare, MI 48617. | https://msc.fema.gov/portal/advanceSearch. | Jan. 23, 2026 | 261259
Isabella | Township of Vernon (24-05-2731P). | The Honorable Ben Browning, Supervisor, Township of Vernon, 9836 North Mission Road, Clare, MI 48617. | Township Hall, 9836 North Mission Road, Clare, MI 48617. | https://msc.fema.gov/portal/advanceSearch. | Jan. 23, 2026 | 260825
Macomb | Charter Township of Shelby (25-05-0294P). | The Honorable Rick Stathakis, Supervisor, Charter Township of Shelby, 52700 Van Dyke Avenue, Shelby Township, MI 48316. | Building Department, 52700 Van Dyke Avenue, Shelby Township, MI 48316. | https://msc.fema.gov/portal/advanceSearch. | Feb. 3, 2026 | 260126
North Carolina:
Graham | Eastern Band of Cherokee Indians (25-04-0355P). | The Honorable Michell Hicks, Principal Chief, Eastern Band of Cherokee Indians, P.O. Box 1927, Cherokee, NC 28719. | Regulatory Compliance, 88 Council House Loop, Cherokee, NC 28719. | https://msc.fema.gov/portal/advanceSearch. | Jan. 2, 2026 | 370401
Jackson | Unincorporated areas of Jackson County (25-04-4097P). | The Honorable Mark Letson, Chair, Jackson County Board of Commissioners, 401 Grindstaff Cove Road, Sylva, NC 28779. | Jackson County Permitting and Code Enforcement, 538 Scotts Creek Road, Suite 205, Sylva, NC 28779. | https://msc.fema.gov/portal/advanceSearch. | Jan. 16, 2026 | 370282
Surry | Unincorporated areas of Surry County (25-04-3161P). | The Honorable Mark Marion, Chair, Surry County Board of Commissioners, P.O. Box 1467, Dobson, NC 27017. | Surry County Development Services, 122 Hamby Road, Dobson, NC 27017. | https://msc.fema.gov/portal/advanceSearch. | Jan. 12, 2026 | 370364
Ohio: Butler | Unincorporated areas of Butler County (25-05-1189P). | The Honorable Donald L. Dixon, President, Butler County, Board of Commissioners, 315 High Street, Hamilton, OH 45011. | Butler County Administrative Center, 130 High Street, Hamilton, OH 45011. | https://msc.fema.gov/portal/advanceSearch. | Feb. 2, 2026 | 390037
Oklahoma: Creek | Unincorporated areas of Creek County (25-06-1091P). | The Honorable Newt Stephens, Chair, Creek County Board of Commissioners, 317 East Lee Avenue, Suite 103, Sapulpa, OK 74066. | Creek County Collins Building, 317 East Lee Avenue, Suite 101, Sapulpa, OK 74066. | https://msc.fema.gov/portal/advanceSearch. | Jan. 30, 2026 | 400490
Texas:
Atascosa | City of Lytle (25-06-0156P). | The Honorable Ruben Gonzalez, Mayor, City of Lytle, 14916 Main Street, Lytle, TX 78052. | Public Works Department, P.O. Box 743, Lytle, TX 78052. | https://msc.fema.gov/portal/advanceSearch. | Jan. 29, 2026 | 480692
Atascosa | Unincorporated areas of Atascosa County (25-06-0156P). | The Honorable Weldon Cude, Atascosa County Judge, 1 Courthouse Circle Drive, Suite 105, Jourdanton, TX 78026. | Atascosa County Administration Building, 800 North Loop 288, Denton, TX 76209. | https://msc.fema.gov/portal/advanceSearch. | Jan. 29, 2026 | 480014
Collin | City of McKinney (25-06-0308P). | The Honorable Bill Cox, Mayor, City of McKinney, P.O. Box 517, McKinney, TX 75070. | Engineering Department, 401 East Virginia Street, McKinney, TX 75069. | https://msc.fema.gov/portal/advanceSearch. | Feb. 17, 2026 | 480135
Collin | City of Melissa (25-06-0308P). | The Honorable Jay Northcut, Mayor, City of Melissa, 3411 Barker Avenue, Melissa, TX 75454. | City Hall, 3411 Barker Avenue, Melissa, TX 75454. | https://msc.fema.gov/portal/advanceSearch. | Feb. 17, 2026 | 481626
Collin | Unincorporated areas of Collin County (25-06-0308P). | The Honorable Chris Hill, Collin County Judge, 2300 Bloomdale Road, 1st Floor, McKinney, TX 75071. | Collin County Engineering Department, 4690 Community Avenue, Suite 200, McKinney, TX 75071. | https://msc.fema.gov/portal/advanceSearch. | Feb. 17, 2026 | 480130
Dallas | City of Dallas (25-06-0158P). | Kimberly Bizor Tolbert, City Manager, City of Dallas, 1500 Marilla Street, Room 4EN, Dallas, TX 75201. | Stormwater Operations Department, 2245 Irving Boulevard, 2nd Floor, Dallas, TX 75207. | https://msc.fema.gov/portal/advanceSearch. | Feb. 2, 2026 | 480171
Grayson | City of Sherman (24-06-2615P). | The Honorable Shawn C. Teamann, Mayor, City of Sherman, 220 West Mulberry Street, Sherman, TX 75090. | City Hall, 220 West Mulberry Street, Sherman, TX 75090. | https://msc.fema.gov/portal/advanceSearch. | Feb. 6, 2026 | 485509
Hays | City of Kyle (25-06-0299P). | The Honorable Travis Mitchell, Mayor, City of Kyle, 100 West Center Street, Kyle, TX 78640. | City Hall, 100 West Center Street, Kyle, TX 78640. | https://msc.fema.gov/portal/advanceSearch. | Feb. 5, 2026 | 481108
Hays | Unincorporated areas of Hays County (25-06-0299P). | The Honorable Ruben Becerra, Hays County Judge, 111 East San Antonio Street, Suite 300, San Marcos, TX 78666. | Hays County Development Services Department, 2171 Yarrington Road, Suite 100, Kyle, TX 78640. | https://msc.fema.gov/portal/advanceSearch. | Feb. 5, 2026 | 480321
Rockwall | City of Fate (25-06-0577P). | The Honorable Andrew Greenburg, Mayor, City of Fate, 1900 CD Boren Parkway, Fate, TX 75087. | City Hall, 105 East Fate Main Place, Fate, TX 75132. | https://msc.fema.gov/portal/advanceSearch. | Jan. 30, 2026 | 480544
Rockwall | City of Royse City (24-06-2474P). | The Honorable Janet Nichol, Mayor, City of Royse City, P.O. Box 638, Royse City, TX 75189. | City Hall, 100 West Main Street, Royse City, TX 75189. | https://msc.fema.gov/portal/advanceSearch. | Jan. 30, 2026 | 480548
Virgina:
Prince William | Unincorporated areas of Prince William County (24-03-0364P). | The Honorable Christopher Shorter, Prince William County Executive, 1 County Complex Court, Prince William, VA 22192. | Prince William County Department of Public Works, Environmental Management Division, 5 County Complex Court, Suite 170, Prince William, VA 22192. | https://msc.fema.gov/portal/advanceSearch. | Jan. 9, 2026 | 510119
Prince William | Unincorporated areas of Prince William County (24-03-0470P). | The Honorable Christopher Shorter, Prince William County Executive, 1 County Complex Court, Prince William, VA 22192. | Prince William County Department of Public Works, Environmental Management Division, 5 County Complex Court, Suite 170, Prince William, VA 22192. | https://msc.fema.gov/portal/advanceSearch. | Jan. 9, 2026 | 510119

[FR Doc. 2025-23170 Filed 12-17-25; 8:45 am]

BILLING CODE 9110-12-P